FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 29, 2014.

A. Federal Reserve Bank of Kansas City (Dennis Denney, Assistant Vice President) 1 Memorial Drive, Kansas City, Missouri 64198-0001:

1. The Schwartz Family Revocable Trust, Janice F. Schwartz, trustee; Susan Andersen; and Mark Andersen, all of Lawrence, Kansas, as members of the Bob Schwartz Family Group, acting in concert, and the Schwartz Family Revocable Trust, and Janice F. Schwartz, individually; to retain voting shares of Blue Rapids Bancshares, Inc., and thereby indirectly retain voting shares of State Bank of Blue Rapids, both in Blue Rapids, Kansas.

B. Federal Reserve Bank of San Francisco (Gerald C. Tsai, Director, Applications and Enforcement) 101 Market Street, San Francisco, California 94105-1579:

1. Sang Young Lee, Chun Young Lee and Lee's Gold and Diamond Import, Inc., La Canada, California; to acquire voting shares of Pacific City Financial Corporation, and thereby indirectly acquire voting shares of Pacific City Bank, both of Los Angeles, California.

Board of Governors of the Federal Reserve System, July 9, 2014.
Michael J. Lewandowski,
Associate Secretary of the Board.

[FR Doc. 2014-16450 Filed 7-14-14; 8:45 am]

BILLING CODE 6210-01-P